NUCLEAR REGULATORY COMMISSION

10 CFR Parts 50 and 55

[NRC-2012-0031]

RIN 3150-AJ11

Onsite Emergency Response Capabilities

AGENCY: Nuclear Regulatory Commission.

ACTION: Preliminary proposed rule language.

SUMMARY: The U.S. Nuclear Regulatory Commission (NRC) is making available preliminary proposed rule language that would strengthen and integrate onsite emergency response capabilities. The NRC will periodically make publicly available a series of documents related to the ongoing proposed rulemaking effort to amend its regulations regarding onsite emergency response capabilities. The availability of these documents provides increased awareness to interested stakeholders and provides preparatory material for future public meetings. The NRC does not plan to institute a public comment period for these materials when making them publicly available.

DATES: At this time, the NRC is not soliciting public comments on the materials identified in this document. There will be an opportunity for public comment on the proposed rule when it is published in the Federal Register.

ADDRESSES: Please refer to Docket ID NRC-2012-0031 when contacting the NRC about the availability of information for this document. You may access publicly available information related to this document by any of the following methods:

• Federal Rulemaking Web site: Go to http://www.regulations.gov and search for Docket ID NRC-2012-0031. Address questions about NRC dockets to Carol Gallagher; telephone: 301-287-3422; email: Carol.Gallagher@nrc.gov. For technical questions, contact the individual listed in the FOR FURTHER INFORMATION CONTACT section of this final rule.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Jennifer Tobin, Office of Nuclear Reactor Regulation, U.S. Nuclear Regulatory Commission, Washington, DC 20555-0001; telephone: 301-415-2328; email: Jennifer.Tobin@nrc.gov.

SUPPLEMENTARY INFORMATION:

I. Background

As a result of the events at the Fukushima Dai-ichi Nuclear Power Plant in 2011, the NRC's Near-Term Task Force (NTTF) created a series of recommendations intended to outline a path to increased readiness of nuclear power plants to respond to severe accidents. In its report, “Recommendations for Enhancing Reactor Safety in the 21st Century: The Near-Term Task Force Review of Insights from the Fukushima Dai-ichi Accident” (ADAMS Accession No. ML111861807), the NTTF proposed developing additional requirements to strengthen and integrate licensees' onsite emergency response capabilities. Specifically, this proposal, called Recommendation 8 in the NTTF report, identified four areas of focus for onsite emergency response: accident mitigating procedures, command and control structures, training and qualification programs, and severe accident exercises. In response to the NTTF report, the NRC staff developed SECY-11-0137, “Prioritization of Recommended Actions to be Taken in Response to Fukushima Lessons Learned” (ADAMS Accession No. ML11269A204). The NRC staff recommended issuing an Advance Notice of Proposed Rulemaking (ANPR) to initiate regulatory action to address NTTF Recommendation 8. Following Commission approval of the staff's recommendation, the NRC issued the ANPR on April 18, 2012 (77 FR 23161), as the first step in the rulemaking process. After receiving stakeholder comments on the ANPR, the NRC drafted a regulatory basis with the goals of identifying any regulatory deficiencies in the area of onsite emergency response capabilities and developing a revised regulatory approach. The regulatory basis was published on October 25, 2013 (78 FR 63901), at which time, the proposed rule stage of the rulemaking process began.

II. Preliminary Proposed Rule Language

As the NRC continues its ongoing proposed rulemaking effort to amend portions of parts 50 and 55 of Title 10 of the Code of Federal Regulations (10 CFR), the NRC is making documents publicly available on the Federal rulemaking Web site, www.regulations.gov, under Docket ID NRC 2012-0031. The NRC is now making preliminary proposed rule language that would require licensees to: (1) Have strategies and guidance for mitigating the consequences of severe accidents; (2) integrate event and accident mitigating procedures; (3) identify command and control roles, responsibilities, and authorities during the progression of an event or accident; (4) conduct related drills, exercises or both; (5) provide training; and (6) incorporate severe accident situations in written examinations and operating tests for all types of operators.

This preliminary proposed rule language does not represent a final NRC staff position, nor has it been reviewed by the Commission. Therefore, the preliminary proposed rule language may undergo significant revision during the rulemaking process. The NRC is not requesting public comments on the preliminary proposed rule language.

III. Petitions for Rulemaking

Included in the regulatory basis for this proposed rulemaking (ADAMS Accession No. ML13101A324) is a discussion of a petition for rulemaking (PRM), PRM-50-102 (76 FR 58165; September 20, 2011), submitted by the Natural Resources Defense Council (NRDC). The NRDC requested that the NRC conduct a rulemaking to address training and exercise requirements for severe accident mitigation guidelines and extensive damage mitigation guidelines. The NRC determined that the issues raised in PRM-50-102 are appropriate for consideration and will be considered in this Onsite Emergency Response Capabilities rulemaking.

IV. Publicly Available Documents

By making documents publicly available, the NRC seeks to inform stakeholders of the current status of the NRC's rulemaking development activities and to provide preparatory material for future public meetings. The NRC is not instituting a public comment period on these materials, but the public is encouraged to participate in related public meetings. In addition, the public will be given opportunity to provide comments on the proposed rule upon its publication in the Federal Register. The NRC may post additional materials, including other preliminary rule language, to the Federal rulemaking Web site at http://www.regulations.gov, under Docket ID NRC-2012-0031. The Federal rulemaking Web site allows you to receive alerts when changes or additions occur in a docket folder. To subscribe: (1) Navigate to the docket folder (NRC-2012-0031); (2) click the “Email Alert” link; and (3) enter your email address and select how frequently you would like to receive emails (daily, weekly, or monthly).

V. Plain Writing

The Plain Writing Act of 2010 (Pub. L. 111-274) requires Federal agencies to write documents in a clear, concise, well-organized manner that also follows other best practices appropriate to the subject or field and the intended audience. Although regulations are exempt under the Act, the NRC is applying the same principles to its rulemaking documents. Therefore, the NRC has written this document, including the preliminary proposed rule language, to be consistent with the Plain Writing Act. There will be an opportunity for public comment on the use of plain language when the proposed rule is published in the Federal Register.

Dated at Rockville, Maryland, this 7th day of November, 2013.
For the Nuclear Regulatory Commission.
Shana Helton,
Acting Deputy Director, Division of Policy and Rulemaking, Office of Nuclear Reactor Regulation .

[FR Doc. 2013-27449 Filed 11-14-13; 8:45 am]

BILLING CODE 7590-01-P